DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Science Board (DSB) will take place.

DATES: Closed to the public Tuesday, February 6, 2024, from 9:00 a.m. to 4:45 p.m.; closed to the public Wednesday, February 7, 2024 from 8:15 a.m. to 5:00 p.m.; closed to the public Thursday, February 8, 2024 from 8:15 a.m. to 4:00 p.m.

ADDRESSES: The addresses of the closed meeting are the Pentagon, Room 3A912A, Washington, DC, 20301 and 4075 Wilson Blvd., Suite 300, Arlington, VA 22203.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/. The most up-to-date changes to the meeting agenda can be found on the website.

SUPPLEMENTARY INFORMATION: This meeting is being held under the provisions of chapter 10 of title 5, United States Code (U.S.C.) (commonly known as the “Federal Advisory Committee Act” or “FACA”), 5 U.S.C. 552b (commonly known as the “Government in the Sunshine Act”), and sections 102-3.140 and 102-3.150 of title 41, Code of Federal Regulations (CFR).

Due to circumstances beyond the control of the DFO, the DSB was unable to provide public notification required by 41 CFR 102-3.150(a) concerning its February 6—8, 2024 meeting. Accordingly, the Advisory Committee Management Officer for the DoD, pursuant to 41 CFR 102-3.150(b), waives the 15-calendar day notification requirement. Purpose of the Meeting: The mission of the DSB is to provide independent advice and recommendations on matters relating to the DoD's scientific and technical enterprise. The objective of the meeting is to obtain, review, and evaluate classified information related to the DSB's mission. DSB membership will meet with DoD leadership to discuss classified current and future national security challenges and priorities within the DoD. DSB membership will also discuss the 2024 DSB Summer Study on Advanced Capabilities for Potential Future Conflict and classified strategies for continued development of symmetric and asymmetric capabilities.

Agenda: The meeting will begin on Tuesday, February 6, 2024 at 9:00 a.m. Ms. Betsy Kowalski, DSB DFO, and Dr. Eric Evans, DSB Chair, will provide classified opening remarks regarding ongoing studies. Following break, Lt. Gen. Charles Moore, United States Air Force (Ret.), the Chair of the DSB Task Force on Future Cyber Warfighting Capabilities of the DoD will provide a classified briefing on the Task Force's findings and recommendations, regarding technical evaluations of cyber capabilities, on which the DSB will then deliberate and vote. Following break, Dr. Katherine McGrady and Dr. Robert Wisnieff, Chairs of the DSB Task Force to Advise Implementation and Prioritization of National Security Innovation Activities will provide a classified briefing on the Task Force's findings and recommendations, regarding emerging hardware and materials areas with the most significant potential dual-use impact, on which the DSB will then deliberate and vote. After a break, Dr. Robert Grossman, study chair, will present the DSB Task Force on Digital Engineering's written report, regarding an independent assessment of the progress made by the DoD in implementing sections 23l (a) through (c) of the Fiscal Year 2020 National Defense Authorization Act, followed by classified deliberation and a vote. The DSB Task Force on Test and Evaluation, which studied the resources and capabilities of the test and evaluation organizations, facilities, and laboratories of the DoD and is chaired by Dr. Dave Van Wie and Dr. Johney Green, will present a minority opinion document followed by classified deliberation and a vote. Next, Dr. David Knoll, Director for Analysis and Study Director, Office of the Secretary of Defense (OSD) Policy; Mr. Elee Wakim, Project Lead, OSD Policy; CDR Matthew Noland, Study Member, OSD Policy; CPT T.S. Allen, U.S. Army, Study Member; and MAJ Bart Kennedy, Study Member, Joint Staff, from a Joint OSD Policy, Joint Staff J7, and Office of Net Assessment team will provide a classified briefing on lessons learned from the Russia-Ukraine conflict. Finally, Mr. Doug Beck, Director of the Defense Innovation Unit (DIU), will provide a classified briefing on DIU's strategy, challenges, and priorities. The meeting will adjourn at 4:45 p.m. On Wednesday, February 7, 2024 at 8:15 a.m., Ms. Betsy Kowalski, DSB DFO, and Dr. Eric Evans, DSB Chair, will provide opening remarks and a classified overview of the objectives of the 2024 Summer Study on Advanced Capabilities for Potential Future Conflict. Next, DSB members will meet to discuss classified strategies that best enable DoD's continued development of symmetric and asymmetric capabilities that will characterize future conflicts, including periodic breaks. Finally, the Honorable Heidi Shyu, Under Secretary of Defense for Research & Engineering, will provide a classified briefing on her view of symmetric and asymmetric capabilities that will characterize future conflicts. The meeting will adjourn at 5:00 p.m. On Thursday, February 8, 2024, starting at 8:15 a.m., the DSB members will continue to meet to discuss classified strategies that best enable DoD's continued development of symmetric and asymmetric capabilities that will characterize future conflicts, including periodic breaks. The meeting will adjourn at 4:00 p.m.

Meeting Accessibility: In accordance with 5 U.S.C. 1009(d) and 41 CFR 102-3.155, the DoD has determined that the DSB meeting will be closed to the public. Specifically, the Under Secretary of Defense for Research and Engineering (R&D), in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meeting. To permit the meeting to be open to the public would preclude discussion of such matters and would greatly diminish the ultimate utility of the DSB's findings and recommendations to the Secretary of Defense and to the Under Secretary of Defense for R&D.

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to the meeting, which is the subject of this notice, then it may not be provided to or considered by the DSB until a later date.

Dated: January 30, 2024.
Aaron T. Siegel,
Alternate OSD Federal Register Liaison Officer, Department of Defense.

[FR Doc. 2024-02207 Filed 2-2-24; 8:45 am]

BILLING CODE 6001-FR-P